DEPARTMENT OF COMMERCE

Census Bureau

Agency Information Collection Activities; Submission to the Office of Management and Budget (OMB) for Review and Approval; Comment Request; Report of Building or Zoning Permits Issued for New Privately-Owned Housing Units

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 7, 2021 during a 60-day comment period. This notice allows for an additional 30 days for public comments.

Agency: U.S. Census Bureau, Commerce.

Title: Report of Building or Zoning Permits Issued for New Privately-Owned Housing Units.

OMB Control Number: 0607-0094.

Form Number(s): C-404.

Type of Request: Regular submission, Request for an Extension, without Change, of a Currently Approved Collection.

Number of Respondents: 20,000 respondents providing a total of 114,743 responses per year.

Average Hours per Response: 9.22 minutes.

Burden Hours: 17,625.

Needs and Uses: The Census Bureau conducts the Report of Building or Zoning Permits Issued for New Privately-Owned Housing Units, otherwise known as the Building Permits Survey (BPS) to collect data on new residential buildings from state and local permit-issuing offices. The key estimates from the survey are the numbers of new housing units authorized by building permits; data are also collected on the valuation of the housing units. Form C-404 specifically collects information on changes to the geographic coverage of the permit-issuing place, the number and valuation of new residential housing units authorized by building permits, and additional information on residential permits valued at $2 million or more, including, but not limited to, site address and type of building.

The Census Bureau produces statistics used to monitor activity in the large and dynamic construction industry. Given the importance of this industry, several of the statistical series have been designated by the Office of Management and Budget as Principal Economic Indicators. Two such indicators are directly dependent on the key estimates from the BPS. For New Residential Construction (which includes Housing Units Authorized by Building Permits, Housing Starts, and Housing Completions), form C-404 is used to collect the estimate for Housing Units Authorized by Building Permits. For New Residential Construction and Sales, the number of housing units authorized by building permits is a key component utilized in the estimation of housing units started, completed, and sold.

These statistics help state, local, and federal governments, as well as private industry, analyze this important sector of the economy. The building permit series are available monthly based on a sample of building permit offices, and annually based on the entire universe of permit offices. Published data from the survey can be found on the Census Bureau's website at www.census.gov/permits.

Beginning January 2022, the U.S. Census Bureau is proposing to change the methodology for the tabulation of monthly Building Permit Survey. The methodology will change from a representative sample to a cutoff sample based on recent permit activity by jurisdiction.

Affected Public: State, Local, or Tribal government.

Frequency: There are roughly 20,000 permit issuing jurisdictions in the United States. Slightly less than one-half of those permit offices are requested to report monthly. The remaining offices are surveyed annually.

Respondent's Obligation: Voluntary.

Legal Authority: Title 13, United States Code, Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0094.

Sheleen Dumas,
Department PRA Clearance Officer, Office of the Chief Information Officer, Commerce Department.

[FR Doc. 2021-16150 Filed 7-28-21; 8:45 am]

BILLING CODE 3510-07-P